INTERNATIONAL TRADE COMMISSION

[Investigation Nos. 701-TA-407 and 731-TA-902, 904, 905 (Review) (Remand)]

Hot-Rolled Steel Products From Kazakhstan, Romania, and South Africa

AGENCY: United States International Trade Commission.

ACTION: Revised scheduled for the referenced remand proceedings.

SUMMARY: The U.S. International Trade Commission (“Commission”) has modified the schedule for the referenced remand proceedings. For further information concerning the conduct of this proceeding and rules of general application, consult the Commission's Rules of Practice and Procedure, part 201, subparts A through E (19 CFR part 201), and part 207, subpart A (19 CFR part 207).

DATES: Effective Date: May 12, 2009.

FOR FURTHER INFORMATION CONTACT: Mary Messer, Office of Investigations, telephone 202-205-3193, or Marc A. Bernstein, Office of General Counsel, telephone 202-205-3087, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record of the underlying reviews (Investigation Nos. 701-TA-404-408 and 731-TA-898-902 and 904-908 (Review)) may be viewed on the Commission's electronic docket (“EDIS”) at http://edis.usitc.gov.

SUPPLEMENTARY INFORMATION: Background.—On May 4, 2009, the Commission issued a Federal Register notice instituting the referenced remand proceedings and specifying certain written submissions that may be filed in the proceedings. 74 FR 21821 (May 11, 2009). Specifically, the Commission set a deadline of May 14, 2009 for submission of certain types of additional information regarding the operations of ArcelorMittal, its affiliates including Mittal USA, and its predecessor companies including Ispat and Ispat Inland. The Commission additionally established a deadline for May 29, 2009, for submission of written comments.

On May 11, 2009, counsel for Mittal USA filed a request for an extension of time to submit additional information regarding the operations of ArcelorMittal. The Commission has found good cause to extend this deadline from May 14, 2009 to May 18, 2009. Because the Commission has extended the deadline for submission of new information into the record, the Commission is also extending the deadline for submission of written comments from May 29, 2009 to June 1, 2009. Except for the due dates, all restrictions concerning these submissions specified in the May 4, 2009 notice remain applicable.

Parties are also advised to consult with the Commission's Rules of Practice and Procedure, part 201, subparts A through E (19 CFR part 201), and part 207, subpart A (19 CFR part 207) for provisions of general applicability concerning written submissions to the Commission.

By order of the Commission.
Issued: May 12, 2009.
Marilyn R. Abbott,
Secretary to the Commission.

[FR Doc. E9-11460 Filed 5-15-09; 8:45 am]

BILLING CODE 7020-02-P